DEPARTMENT OF THE TREASURY

Office of Foreign Assets Control

Sanctions Action Pursuant to Executive Order 13712

AGENCY: Office of Foreign Assets Control, Treasury.

ACTION: Notice.

SUMMARY: The Treasury Department's Office of Foreign Assets Control (OFAC) is publishing updated information for one individual whose property and interests in property are blocked pursuant to Executive Order (E.O.) 13712, “Blocking Property of Certain Persons Contributing to the Situation in Burundi,” and whose name has been added to OFAC's list of Specially Designated Nationals and Blocked Persons (SDN List).

DATES: OFAC's action described in this notice was effective February 3, 2016.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/-622-0077.

Notice of OFAC Actions

On February 3, 2016, OFAC updated the identifying information for one individual whose property and interests in property are blocked pursuant to E.O. 13712. The updated identifying information for the individual is as follows:

NIYONZIMA, Joseph (a.k.a. NIJONZIMA, Joseph; a.k.a. NIYONZIMA, Mathias; a.k.a. NIYONZIMA, Salvator; a.k.a. “Kazungu”); DOB 02 Jan 1967; alt. DOB 06 Mar 1956; POB Kanyosha Commune, Mubimbi, Bujumbura-Rural Province, Burundi (individual) [BURUNDI].

Dated: February 3, 2016.
John E. Smith,
Acting Director, Office of Foreign Assets Control.

[FR Doc. 2016-02371 Filed 2-5-16; 8:45 am]

BILLING CODE 4810-AL-P